COMMITTEE FOR PURCHASE FROM PEOPLE WHO ARE BLIND OR SEVERELY DISABLED

Procurement List: Proposed Additions and Deletion

AGENCY: Committee for Purchase From People Who Are Blind or Severely Disabled.

ACTION: Proposed Additions to and Deletion from the Procurement List.

SUMMARY: The Committee is proposing to add to the Procurement List a product and services to be furnished by nonprofit agencies employing persons who are blind or have other severe disabilities, and to delete a service previously furnished by such agencies.

Comments Must Be Received On or Before: October 28, 2007.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail: CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Hydration System, MOLLE, Universal Camouflage

NSN: 8465-01-525-5531.

NPA: The Lighthouse for the Blind, Inc., Seattle, WA.

Coverage: C-List—for the requirements of the Defense Supply Center Philadelphia, Philadelphia, PA.

Contracting Activity: Defense Supply Center Philadelphia, Philadelphia, PA

Services

Service Type/Location: Base Supply Center, Fort Belvoir, Fort Belvoir, VA.

NPA: Virginia Industries for the Blind, Charlottesville, VA.

Contracting Activity: Department of Army, Capital District Contracting Center (CDCC), Fort Belvoir, VA.

Service Type/Location: Document Destruction, Social Security Administration, 1301 Young Street, Dallas, TX.

NPA: Expanco, Inc., Fort Worth, TX.

Contracting Activity: Social Security Administration, Dallas, TX.

Service Type/Location: Custodial Services, U.S. Army Reserve Center, Camp Bullis, Building 6143, San Antonio, TX.

NPA: Professional Contract Services, Inc., Austin, TX.

Contracting Activity: Army Contracting Agency, Southern Region, Fort Sam Houston, TX.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

Comments on this certification are invited. Commenters should identify the statement(s) underlying the certification on which they are providing additional information.

End of Certification

The following service is proposed for deletion from the Procurement List:

Service

Service Type/Location: Janitorial/Custodial, Social Security Building, 350 Donmoor, Baton Rouge, LA.

NPA: Louisiana Industries for the Disabled, Inc., Baton Rouge, LA.

Contracting Activity: General Services Administration, Facility Support Center, New Orleans, LA.

Kimberly M. Zeich,
Director, Program Operations.

[FR Doc. E7-19223 Filed 9-27-07; 8:45 am]

BILLING CODE 6353-01-P